DEPARTMENT OF COMMERCE

International Trade Administration

[A-201-836]

Light-Walled Rectangular Pipe and Tube From Mexico: Final Results of Antidumping Duty Administrative Review; 2021-2022

SUMMARY: The U.S. Department of Commerce (Commerce) determines that sales of light-walled rectangular pipe and tube (LWRPT) from Mexico were made at less than normal value during the period of review (POR), August 1, 2021, through July 31, 2022.

DATES: Applicable March 12, 2024.

FOR FURTHER INFORMATION CONTACT: John Conniff or Charles Doss, AD/CVD Operations, Office III, Enforcement and Compliance, International Trade Administration, U.S. Department of Commerce, 1401 Constitution Avenue NW, Washington, DC 20230; telephone: (202) 482-1009 or (202) 482-4474, respectively.

SUPPLEMENTARY INFORMATION:

Background

On September 8, 2023, Commerce published the Preliminary Results for this review in the Federal Register and invited interested parties to comment on those results.¹ From January 22 to 29, 2024, interested parties submitted case and rebuttal briefs.² For a complete summary of events that have occurred since Commerce published the Preliminary Results, as well as a full discussion of the issues raised by parties for these final results, see the Issues and Decision Memorandum.³ Commerce conducted this review in accordance with section 751(a) of the Tariff Act of 1930, as amended (the Act).

¹ See Light-Walled Rectangular Pipe and Tube from Mexico: Preliminary Results and Partial Rescission of the Antidumping Duty Administrative Review; 2021-2022, 88 FR 62056 (September 8, 2023) (Preliminary Results), and accompanying Preliminary Decision Memorandum.

² See Nucor Tubular Products Inc. (Nucor)'s Letter, “Case Brief,” dated January 22, 2024; see also Maquilacero S.A. de C.V.'s (Maquilacero)'s Letter, “Case Brief;” dated January 22, 2024; Perfiles LM, S.A. de C.V.'s Letter, “Case Brief;” dated January 22, 2024; Productos Laminados de Monterrey S.A. de C.V. and its affiliated U.S. reseller, Prolamsa, Inc (jointly, Prolamsa)'s Letter, “Rebuttal Brief;” Nucor's Letter, “Rebuttal Brief,” dated January 29, 2024; and Regiomontana de Perfiles y Tubos S. de R.L. de C.V. (Regiopytsa)'s Letter, “Rebuttal Brief,” dated January 29, 2024.

³ See Memorandum, “Light-Walled Rectangular Pipe and Tube from Mexico: Issues and Decision Memorandum for the Final Results of Antidumping Duty Administrative Review; 2021-2022,” dated concurrently with, and hereby adopted by, this notice (Issues and Decision Memorandum).

Scope of the Order ⁴

⁴ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008) (Order).

The products covered by the Order are LWRPT from Mexico. For a complete description of the scope, see the Issues and Decision Memorandum.

Analysis of Comments Received

All issues raised in the case and rebuttal briefs are addressed in the Issues and Decision Memorandum.⁵ A list of the issues that parties raised and to which we responded in the Issues and Decision Memorandum is attached in an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Issues and Decision Memorandum.

Changes Since the Preliminary Results

Based on a review of the record and comments received from interested parties regarding the Preliminary Results, we made certain changes to the preliminary weighted-average dumping margins calculated for Maquilacero/TEFLU, and Regiopytsa. For a detailed discussion of these changes, see the Issues and Decision Memorandum.⁶

⁶ Id.

Rates for Companies Not Selected for Individual Examination

The statute and Commerce's regulations do not address the establishment of a rate to be applied to individual companies not selected for examination when Commerce limits its examination in an administrative review pursuant to section 777A(c)(2) of the Act. Generally, Commerce looks to section 735(c)(5) of the Act, which provides for calculating the all-others rate in an investigation, for guidance when calculating the rate for companies which Commerce did not examine in an administrative review. Under section 735(c)(5)(A) of the Act, the all-others rate is normally an amount equal to the weighted average of the estimated weighted-average dumping margins established for exporters and producers individually investigated, excluding rates that are zero, de minimis (i.e., less than 0.5 percent), or determined entirely on the basis of facts available.

For these final results of review, we calculated a weighted-average dumping margin for both respondents, Maquilacero/TEFLU and Regiopytsa that are not zero, de minimis, or based entirely on the basis of facts available. Accordingly, consistent with section 735(c)(5)(A) of the Act, we determined the weighted-average dumping margin for each of the non-selected companies based on the weighted-average dumping margins calculated for the mandatory respondents.⁷

⁷ See Memorandum, “Final Results of the Antidumping Duty Administrative Review of Light-Walled Rectangular Pipe and Tube from Mexico: Calculation of the Rate for Non-Selected Respondents,” dated concurrently with this notice.

Final Results of Review

Commerce determines that the following weighted-average dumping margins exist for the period August 1, 2021, through July 31, 2022:

Exporter or producer | Weighted-average dumping margin (percent)
Maquilacero S.A. de C.V./Tecnicas de Fluidos S.A. de C.V | 2.64
Regiomontana de Perfiles y Tubos S. de R.L. de C.V | 1.36
Aceros Cuatro Caminos S.A. de C.V | 2.00
Arco Metal S.A. de C.V | 2.00
Fabricaciones y Servicios de Mexico | 2.00
Galvak, S.A. de C.V | 2.00
Grupo Estructuras y Perfiles | 2.00
Industrias Monterrey S.A. de C.V | 2.00
Internacional de Aceros, S.A. de C.V | 2.00
Nacional de Acero S.A. de C.V | 2.00
PEASA-Productos Especializados de Acero | 2.00
Perfiles LM, S.A. de C.V | 2.00
Productos Laminados de Monterrey S.A. de C.V | 2.00
Talleres Acero Rey S.A. de C.V | 2.00
Ternium Mexico S.A. de C.V | 2.00
Tuberias Aspe S.A de C.V | 2.00
Tuberia Laguna, S.A. de C.V | 2.00
Tuberias y Derivados S.A. de C.V | 2.00

Disclosure

Commerce intends to disclose the calculations performed for these final results to interested parties in this review within five days of the date of publication of this notice in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries covered by this review. In accordance with 19 CFR 351.212(b)(1), where the respondents reported the entered value of their U.S. sales, Commerce calculated importer-specific ad valorem antidumping duty assessment rates based on the ratio of the total amount of dumping calculated for each importer's examined sales to the total entered value of those same sales. Where the respondents did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either a respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR for which the examined companies did not know that the merchandise they sold to an intermediary (e.g., a reseller, trading company, or exporter) was destined for the United States. In such instances, we will instruct CBP to liquidate such entries at the all-others rate if there is no rate for the intermediate company(ies) involved in the transaction.

The assessment rate for antidumping duties for each of the companies not selected for individual examination will be equal to the weighted-average dumping margin identified above in the “Final Results of Review” section.

The final results of this review shall be the basis for the assessment of antidumping duties on entries of merchandise covered by the final results of this review and for future deposits of estimated duties, where applicable.⁸

⁸ See section 751(a)(2)(C) of the Act.

Commerce intends to issue assessment instructions to CBP no earlier than 41 days after the date of publication of the final results of this review in the Federal Register in accordance with 19 CFR 356.8(a).

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 3.76 percent, the rate established in the investigation of this proceeding.⁹

⁹ See Order, 73 FR at 45405

These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the term of an APO is a sanctionable violation.

Notification to Interested Parties

We are issuing and publishing this notice in accordance with sections 751(a)(1) and 777(i)(1) of the Act, and 19 CFR 351.221(b)(5).

Dated: March 6, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of Issues

Comment 1: Whether Products Sold by TEFLU are In-Scope Merchandise

Comment 2: Whether Commerce Should Modify the Product Characteristics Used in Model Matching

Comment 3: Whether Commerce Should Alter its Treatment of Level of Trade (LOT) Fields in the Margin Program

Comment 4: Whether Commerce Should Remove TEFLU's Sample Sales from Maquilacero/TEFLU's Margin Calculation

Comment 5: Whether Commerce Should Remove Date of Payment and Credit Expense Adjustments from its Margin Calculation

Comment 6: Whether Commerce Must Adjust its Differential Pricing Analysis for Maquilacero/TEFLU

Comment 7: Adjustment of Maquilacero's Domestic Brokerage and Handling (B&H) Charges

Comment 8: Whether Commerce Should Use Updated Financial Statements

Comment 9: Whether Commerce Should Reject Regiopytsa's Change in Depreciation Methodology

Comment 10: Whether Regiopytsa's Total Direct Material Costs Are Consistent with its Financial Statements

Comment 11: Whether Commerce Should Revise the Scrap Offset

Comment 12: Whether Commerce Should Revise Regiopytsa's General and Administrative (G&A) Expenses

Comment 13: Whether Commerce Should Rely on a Different Methodology for Assigning a Weighted-Average Dumping Margin to Perfiles

VI. Recommendation

[FR Doc. 2024-05221 Filed 3-11-24; 8:45 am]

BILLING CODE 3510-DS-P